FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202) 523-5793 or tradeanalysis@fmc.gov.

Agreement No.: 011450-001.

Title: Kyowa Shipping Co. Ltd. and Nippon Yusen Kaisha Space Charter Agreement.

Parties: Kyowa Shipping Co. Ltd. and Nippon Yusen Kaisha.

Filing Party: Robert Shababb, Corporate Counsel, NYK Line (North America) Inc.; 300 Lighting Way, 5th Floor; Secaucus, NJ 07094.

Synopsis: The amendment clarifies the geographic scope and adds American Samoa to the scope.

Agreement No.: 012243.

Title: MOL/Glovis Space Charter Agreement.

Parties: Mitsui O.S.K. Lines, Ltd. and Hyundai Glovis Co., Ltd.

Filing Party: Robert B. Yoshitomi, Esq., Nixon Peabody LLP, Gas Company Tower, 555 West Fifth Street 46th Floor, Los Angeles, CA 90013.

Synopsis: The agreement authorizes MOL to charter space to Glovis on MOL vessels for the transportation of new vehicles in the trade between Korea and the United States.

By Order of the Federal Maritime Commission.
Dated: January 17, 2014.
Rachel E. Dickon,
Assistant Secretary.

[FR Doc. 2014-01322 Filed 1-23-14; 8:45 am]

BILLING CODE 6730-01-P